DEPARTMENT OF ENERGY

Federal Energy Regulatory Commission

[Project No. 2411-030]

Eagle Creek Schoolfield, LLC, City of Danville; Notice of Application Ready for Environmental Analysis and Soliciting Comments, Recommendations, Terms and Conditions, and Prescriptions

Take notice that the following hydroelectric application has been filed with the Commission and is available for public inspection.

a. Type of Application: New Major License.

b. Project No.: 2411-030.

c. Date filed: July 29, 2022.

d. Applicant: Eagle Creek Schoolfield, LLC and City of Danville.

e. Name of Project: Schoolfield Hydroelectric Project (Schoolfield Project or project).

f. Location: The project is located on the Dan River at approximately river mile 60.1 in the county of Pittsylvania, near the City of Danville, Virginia.

g. Filed Pursuant to: Federal Power Act, 16 U.S.C. 791(a)-825(r).

h. Applicant Contact: Jody Smet, Vice President, Engineering and Regulatory Affairs, Eagle Creek Renewable Energy, LLC, 7315 Wisconsin Avenue, Suite 1100W, Bethesda, Maryland 20814; phone at (804) 382-1764 or email at jody.smet@eaglecreekre.com; Joyce Foster, Director, Licensing and Compliance, Eagle Creek Renewable Energy, LLC, 7315 Wisconsin Avenue, Suite 1100W, Bethesda, Maryland 20814; phone at (804) 338-5110 or email at Joyce.Foster@eaglecreekre.com; and Mr. W. Clarke Whitfield, Junior, City Attorney, City of Danville, 427 Patton Street, Room 421, Danville, Virginia 24541; phone at (434) 799-5122 or email at whitfcc@danvilleva.gov.

i. FERC Contact: Claire Rozdilski at (202) 502-8259; or email at claire.rozdilski@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, please send a paper copy via U.S. Postal Service to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Schoolfield Hydroelectric Project (P-2411-030).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application has been accepted and is ready for environmental analysis at this time.

l. The project facilities consist of: (1) a 910-foot-long, 26.5-foot-high curved ogee-type concrete spillway dam with a crest elevation of 434.7 feet National Geodetic Vertical Datum of 1929 (NGVD29) and topped with 3-foot-high wooden flashboards; (2) an impoundment having a surface area of 287 acres and a gross storage capacity of approximately 1,952 acre-feet at the project's normal maximum water surface elevation of 437.7 feet NGVD29; (3) a 224-foot-long by 35-foot-wide brick and concrete powerhouse that contains three identical 1.5-megawatt (MW) generating units (each generating unit is connected to two identical propeller-type turbine units with a rated capacity of 1,006 horsepower each) for a total installed capacity of 4.5 MW; (4) a 72-foot-long headwall between the dam and the powerhouse with six low-level sluice gates and a non-operating fish ladder; (5) a tailrace that is approximately 160 feet long and 220 feet wide and separated from main river flows by a concrete wall; (6) a substation; (7) generator leads and a step-up transformer; and (8) appurtenant facilities.

The Schoolfield Project is operated in run-of-river mode, whereby outflow from the project approximates inflow, which may be suspended during reservoir drawdown and refilling for inspection of the City of Danville's water supply intakes, which occurs on an as needed basis. During normal operation, a continuous minimum flow of 300 cubic feet per second, or inflow if less, is released downstream. The average annual generation at the project was 15,220 MW-hours from 2017 through 2020.

m. This filing may be viewed on the Commission's website at http://www.ferc.gov using the “eLibrary” link. Enter the docket number excluding the last three digits in the docket number field, to access the document. For assistance, contact FERC Online Support.

All filings must (1) bear in all capital letters the title “COMMENTS,” “REPLY COMMENTS,” “RECOMMENDATIONS,” “TERMS AND CONDITIONS,” or “PRESCRIPTIONS;” (2) set forth in the heading the name of the applicants and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicants. Each filing must be accompanied by proof of service on all persons listed on the service list prepared by the Commission in this proceeding in accordance with 18 CFR 4.34(b) and 385.2010.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or at OPP@ferc.gov.

You may also register online at http://www.ferc.gov/docs-filing/esubscription.asp to be notified via email of new filings and issuances related to this or other pending projects. For assistance, contact FERC Online Support.

n. The applicant must file no later than 60 days from the issuance date of this notice: (1) copy of the water quality certification; (2) a copy of the request for certification, including proof of the date on which the certifying agency received the request; or (3) evidence of a waiver of water quality certification.

o. Procedural schedule: The application will be processed according to the following schedule. Revisions to the schedule will be made as appropriate.

Milestones | Target date
Deadline for filing comments, recommendations, terms and conditions, and prescriptions | November 18, 2024.
Deadline for filing reply comments | January 2, 2025.

p. Final amendments to the application must be filed with the Commission no later than 30 days from the issuance date of this notice.

Dated: September 19, 2024.
Debbie-Anne A. Reese,
Acting Secretary.

[FR Doc. 2024-21994 Filed 9-25-24; 8:45 am]

BILLING CODE 6717-01-P